NUCLEAR REGULATORY COMMISSION

Request To Amend a License To Export Radioactive Waste

Pursuant to 10 CFR 110.70(c) “Public notice of receipt of an application,” please take notice that the Nuclear Regulatory Commission has received the following request to amend an export license. Copies of the request are available electronically through ADAMS and can be accessed through the Public Electronic Reading Room (PERR) link http://www.nrc.gov/reading-rm.html at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

The information concerning this import license application follows.

NRC Export License Application
Name of applicant Date of application Date received application No. docket No. | Material type | Total quantity | End use | Recipient country
Description of Material
Diversified Scientific Services, Inc. (DSSI) February 21, 2007 February 26, 2007 XW008/02 11005323 | Class A radioactive mixed waste in the form of baghouse salts and ash; and, if necessary, return of any non-conforming Class A radioactive mixed waste | License to be amended to extend expiration date to March 31, 2009 | Return of non-conforming waste back to the Atomic Energy of Canada, Limited (AECL) | Canada.

For the Nuclear Regulatory Commission.
Dated this 5th day of April 2007 at Rockville, Maryland.
Janice Dunn Lee,
Director Office of International Programs.

[FR Doc. E7-7270 Filed 4-16-07; 8:45 am]

BILLING CODE 7590-01-P